DEPARTMENT OF HEALTH AND HUMAN SERVICES

Centers for Disease Control and Prevention

[60 Day-17-1035; Docket No. CDC-2017-0022]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the proposed information collection project entitled “Assessing School-Centered HIV/STD Prevention Efforts in a Local Education Agency.” This study provides in-depth assessment of Human Immunodeficiency Virus (HIV) and Sexually Transmitted Disease (STD) prevention efforts in a location education agency funded by CDC's Division of Adolescent and School Health.

DATES: Written comments will be received on or before June 12, 2017.

ADDRESSES: You may submit comments, identified by Docket No. CDC-2017-0022 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Assessing School-centered HIV/STD Prevention Efforts in a Local Education Agency (OMB Control No. 0920-0135; Expiration 11/30/2017)—Revision—Division of Adolescent and School Health (DASH), National Center for HIV/AIDS, Viral Hepatitis, STD, and TB Prevention, Centers for Disease Control and Prevention (CDC).

Background and Brief Description

HIV infections remain high among young men who have sex with men. The estimated number of new HIV infections increased between 2008 and 2010 both overall and among MSM ages 13 to 24. Furthermore, sexual risk behaviors associated with HIV, other STD, and pregnancy often emerge in adolescence. For example, 2015 Youth Risk Behavior Surveillance System (YRBSS) data revealed 41.2% of U.S. high school students reported having had sex, and among those who had sex in the previous three months, only 56.9% reported having used a condom during last sexual intercourse. In addition, 2015 YRBSS data revealed high school students identifying as gay, lesbian, and bisexual and those reporting sexual contact with both males and females were more likely to engage in sexual risk-taking behaviors than heterosexual students.

Given the disproportionate risk for HIV among YMSM ages 13-24, it is important to find ways to reach the younger youth (i.e., ages 13-19) in this range to decrease sexual risk behaviors and increase health-promoting behaviors such as routine HIV testing. Schools provide one opportunity for this. Because schools enroll more than 22 million teens (ages 14-19) and often have existing health and social services infrastructure, schools and their staff members are well-positioned to connect youth to a wide range of needed services, including housing assistance, support groups, and sexual health services such as HIV testing. As a result, CDC's Division of Adolescent and School Health (DASH) has focused a number of HIV and STD prevention efforts on strategies that can be implemented in or centered on schools.

The CDC requests a one-year approval to conduct a revised information collection entitled, “Assessing School-Centered HIV/STD Prevention Efforts in a Local Education Agency” (OMB Control Number 0920-1035). This revised information collection request covers the third in a series of three data collections; the previous two were covered under the previously approved information collection.

The information collection uses a self-administered paper-pencil questionnaire, the Youth Health and School Climate Questionnaire, to assess HIV and STD prevention efforts in one local education agency (LEA) funded by the CDC, Division of Adolescent and School Health (DASH) under strategy 4 (School-Centered HIV/STD Prevention for Young Men Who Have Sex with Men) of PS13-1308: Promoting Adolescent Health through School-Based HIV/STD Prevention and School-Based Surveillance.

This data collection will provide data and reports for the funded LEA, and will allow the LEA to identify program areas that are working well and other areas that need improvement. In addition, the findings will allow CDC to determine the potential impact of currently recommended strategies and make changes to those recommendations if necessary. The questionnaire will include questions on the following topics: demographic information; HIV and STD risk behaviors; use of HIV and STD health services; experiences at school, including school connectedness, harassment and bullying, homophobia, support of Lesbian, Gay, Bisexual, Transgender, and Queer (LGBTQ) students; sexual orientation; receipt of referral for HIV and STD prevention health services; and health education.

This data collection system involves administration of a paper-and-pencil questionnaire to seven high schools that are participating in the HIV/STD prevention project of a local education agency that is funded with support from CDC's PS13-1308 cooperative agreement. The questionnaire, the Youth Health and School Climate Questionnaire, will be administered to approximately 16,500 students across the seven schools in the 2017-2018 school year. This is the third and final data collection of a four-year project that includes three data collections; previous data collections occurred in December 2014 and December 2016. Data collection points coincide with the approximate beginning, mid-way, and end points of the PS13-1308 cooperative agreement. We anticipate the final data collection will yield data from up to 16,500 high school students in grades 9 through 12 at the selected schools. Although some students may have completed the questionnaire in one or more of the previous years, this is not a longitudinal design and individual student responses will not be tracked across the years. No personally identifiable information will be collected.

All students' parents will receive parental consent forms that provide them with an opportunity to opt their children out of the study. In addition, each student will be read verbal assent language that explains he or she may choose not to take the questionnaire or may skip any questions in the questionnaire with no penalty. Participation is completely voluntary.

The estimated burden per response ranges from 35-45 minutes. This variation in burden is due to the slight variability in skip patterns that may occur with certain responses and variations in the reading speed of students. The burden estimate presented here is based on the assumption of a 40-minute response time per response. Students will complete the questionnaire only once under this approval. Annualizing the collection over one year results in an estimated annualized burden of 11,000 hours for respondents. There are no costs to respondents other than their time.

Estimated Annualized Burden Hours
Type of respondents | Form name | Number of respondents | Number of responses per respondent | Average burden per response (in hours) | Total burden (in hours)
Students in grades 9-12 | Youth Health and School Climate Questionnaire | 16,500 | 1 | 40/60 | 11,000
Total |  |  |  |  | 11,000

Leroy A. Richardson,
Chief, Information Collection Review Office, Office of Scientific Integrity, Office of the Associate Director for Science, Office of the Director, Centers for Disease Control and Prevention.

[FR Doc. 2017-07482 Filed 4-12-17; 8:45 am]

BILLING CODE 4163-18-P